DEPARTMENT OF THE TREASURY

Submission for OMB Review; Comment Request

March 25, 2013.

The Department of the Treasury will submit the following information collection request to the Office of Management and Budget (OMB) for review and clearance in accordance with the Paperwork Reduction Act of 1995, Public Law 104-13, on or after the date of publication of this notice.

DATES: Comments should be received on or before April 29, 2013 to be assured of consideration.

ADDRESSES: Send comments regarding the burden estimate, or any other aspect of the information collection, including suggestion for reducing the burden, to (1) Office of Information and Regulatory Affairs, Office of Management and Budget, Attention: Desk Officer for Treasury, New Executive Office Building, Room 10235, Washington, DC 20503, or email at OIRA_Submission@OMB.EOP.GOV and (2) Treasury PRA Clearance Officer, 1750 Pennsylvania Ave. NW., Suite 8140, Washington, DC 20220, or email at PRA@treasury.gov.

FOR FURTHER INFORMATION CONTACT: Copies of the submission(s) may be obtained by calling (202) 927-5331, email at PRA@treasury.gov, or the entire information collection request may be found at www.reginfo.gov.

Alcohol and Tobacco Tax and Trade Bureau (TTB)

OMB Number: 1513-0016.

Type of Review: Extension without change of a currently approved collection.

Title: Drawback on Wines Exported.

Form: TTB F 5120.24.

Abstract: Exporters of wines that were produced, packaged, manufactured, or bottled in the U.S. may file a claim for drawback of the taxes that have been paid or determined on the wine. This form enables TTB to protect the revenue and prevent fraudulent claims.

Affected Public: Private Sector: Businesses or other for-profits.

Estimated Total Burden Hours: 94.

OMB Number: 1513-0031.

Type of Review: Extension without change of a currently approved collection.

Title: Specific and Continuing Transportation Bond—Distilled Spirits or Wines Withdrawn for Transportation to Manufacturing Bonded Warehouse—Class Six.

Form: TTB F 5100.12, TTB F 5110.67.

Abstract: TTB F 5100.12 and TTB F 5110.67 are specific bonds that protect the tax revenue on distilled spirits and wine while in transit from one type of bonded facility to another. They identify the shipment, the parties, the date, and the amount of bond coverage.

Affected Public: Private Sector: Businesses or other for-profits.

Estimated Total Burden Hours: 10.

OMB Number: 1513-0123.

Type of Review: Extension without change of a currently approved collection.

Title: Application, Permit, and Report—Wine and Beer (Puerto Rico) and Application, Permit and Report—Distilled Spirits Products (Puerto Rico).

Form: TTB F 5110.51, TTB F 5100.21.

Abstract: TTB Form 5100.21 is a permit to compute the tax on, tax pay, and withdraw shipments of wine or beer from Puerto Rico to the United States, as substantively required by 27 CFR 26.93. TTB Form 5110.51 is a permit to compute the tax on, tax pay, and withdraw shipments of distilled spirits products from Puerto Rico to the United States, as substantively required by 27 CFR 26.78.

Affected Public: Private Sector: Businesses or other for-profits.

Estimated Total Burden Hours: 6.

Dawn D. Wolfgang,
Treasury PRA Clearance Officer.

[FR Doc. 2013-07165 Filed 3-27-13; 8:45 am]

BILLING CODE 4810-31-P